DEPARTMENT OF DEFENSE

Office of the Secretary

Defense Advisory Committee on Women in the Services (DACOWITS); Notice of Federal Advisory Committee Meeting

AGENCY: Department of Defense.

ACTION: Notice.

SUMMARY: The Department of Defense (DoD) is publishing this notice to announce that the following Federal Advisory Committee meeting of the Defense Advisory Committee on Women in the Services (DACOWITS) will take place. This meeting is open to the public.

DATES: Thursday, December 8, 2016, from 8:30 a.m. to 3:15 p.m.; Friday, December 9, 2016, from 8:30 a.m. to 11:30 a.m.

ADDRESSES: Association of the United States Army (AUSA) Conference Center, 2425 Wilson Boulevard, Arlington, VA 22201.

FOR FURTHER INFORMATION CONTACT: Mr. Robert Bowling or DACOWITS Staff at 4800 Mark Center Drive, Suite 04J25-01, Alexandria, Virginia 22350-9000; robert.d.bowling1.civ@mail.mil, telephone (703) 697-2122, fax (703) 614-6233. Any updates to the agenda or any additional information can be found at http://dacowits.defense.gov/.

SUPPLEMENTARY INFORMATION: Pursuant to the Federal Advisory Committee Act of 1972 (5 U.S.C. Appendix, as amended), the Government in the Sunshine Act of 1976 (5 U.S.C. 552b), and Section 10(a), Public Law 92-463, as amended, notice is hereby given of a forthcoming meeting of the DACOWITS.

The purpose of the meeting is for the Committee to receive briefings and updates relating to their current work. The Designated Federal Officer (DFO) will open the meeting and give a status update on the Committee's requests for information. This will be followed with four panel discussions on the following topics: Integrated Boxing Programs at the Military Service Academies; the Services' Retention Initiatives; the Services' Efforts to Increase Propensity; and the Services' Sexual Harassment/Sexual Assault Training. This will be followed with a public comment period. The second day of the meeting will open with an awards ceremony to recognize departing members. The Committee will then receive a briefing update on DoD's Childcare Programs and Initiatives. This will be followed by a panel discussion on the Services' Family Care Plan Policies.

Pursuant to 41 CFR 102-3.140, and section 10(a)(3) of the Federal Advisory Committee Act of 1972, interested persons may submit a written statement for consideration by the DACOWITS. Individuals submitting a written statement must submit their statement to the point of contact listed at the address in FOR FURTHER INFORMATION CONTACT no later than 5:00 p.m., Wednesday, November 30, 2016. If a written statement is not received by Wednesday, November 30, 2016, prior to the meeting, which is the subject of this notice, then it may not be provided to or considered by the DACOWITS until its next open meeting. The DFO will review all timely submissions with the DACOWITS Chair and ensure they are provided to the members of the Committee. If members of the public are interested in making an oral statement, a written statement should be submitted. After reviewing the written comments, the Chair and the DFO will determine who of the requesting persons will be able to make an oral presentation of their issue during an open portion of this meeting or at a future meeting. Pursuant to 41 CFR 102-3.140(d), determination of who will be making an oral presentation is at the sole discretion of the Committee Chair and the DFO, and will depend on time available and if the topics are relevant to the Committee's activities. Five minutes will be allotted to persons desiring to make an oral presentation. Oral presentations by members of the public will be permitted only on Thursday, December 8, 2016 from 2:45 p.m. to 3:15 p.m. in front of the full Committee. The number of oral presentations to be made will depend on the number of requests received from members of the public.

Pursuant to 5 U.S.C. 552b and 41 CFR 102-3.140 through 102-3.165, this meeting is open to the public, subject to the availability of space.

Meeting Agenda

Thursday, December 8, 2016, From 8:30 a.m. to 3:15 p.m.

—Welcome, Introductions, Announcements

—Request for Information Status Update

—Panel Discussion—Integrated Boxing Programs at the Military Service Academies

—Panel Discussion—Services' Retention Initiatives

—Panel Discussion—Services' Efforts to Increase Propensity Panel Discussion

—Panel Discussion—Services' Sexual Harassment/Sexual Assault Training

—Public Comment Period

—Public Dismissed

Friday, December 9, 2016, From 8:30 a.m. to 11:30 a.m.

—Welcome and Announcements

—Awards Ceremony for Departing Members

—Briefing—DoD Childcare Programs and Initiatives Update

—Panel Discussion—Services' Family Care Plan Policies

—Public Dismissed

Dated: November 9, 2016.
Aaron Siegel,
Alternate OSD Federal Register Liaison Officer, Department of Defense.

[FR Doc. 2016-27413 Filed 11-14-16; 8:45 am]

BILLING CODE 5001-06-P